FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 22, 2015.

A. Federal Reserve Bank of Chicago (Colette A. Fried, Assistant Vice President) 230 South LaSalle Street, Chicago, Illinois 60690-1414:

1. Rodney L. Duroe, Jesup, Iowa, individually, and acting in concert with the Duroe Family Control Group consisting of Albert C. Duroe, Suzanne C. Duroe, Danielle M. Trumbauer, Jason P. Trumbauer, and other minor grandchildren, all of Jesup, Iowa; the William B. Dohrmann Revocable Trust and the Susan J. Dohrmann Revocable Trust, with William B. Dohrmann and Susan J. Dohrmann as co-trustees of both trusts, all of Fayette, Iowa; Linda Ellis and William Ellis, both of Newport Beach, California; to retain voting shares of FSB Financial Services Inc., and thereby indirectly acquire voting shares of Farmers State Bank, Waterloo, Iowa.

B. Federal Reserve Bank of St. Louis (Yvonne Sparks, Community Development Officer) P.O. Box 442, St. Louis, Missouri 63166-2034:

1. The Carl R. Landrum Trust A (Douglas B. Moore acting for Landmark Bank, National Association, Yulia Guseva, and Brenda L. Bingham, trustees); the Carl R. Landrum Trust B (Douglas B. Moore acting for Landmark Bank, National Association, Yulia Guseva, and Brenda L. Bingham, trustees); the Carl R. Landrum Trust, f/b/o John Bennett Landrum (Douglas B. Moore acting for Landmark Bank, National Association, John B. Landrum, and Brenda L. Bingham, trustees); the Carl R. Landrum Trust, f/b/o Jennifer Ruth Landrum (Douglas B. Moore acting for Landmark Bank, National Association, Jennifer R. Landrum, and Brenda L. Bingham, trustees); the Carl R. Landrum Trust, f/b/o Lara Jean Landrum (Douglas B. Moore acting for Landmark Bank, National Association, Lara J. Landrum, and Brenda L. Bingham, trustees); the Marquis C. Landrum Marital Trust (Douglas B. Moore acting for Landmark Bank, National Association, Yulia Guseva, and Brenda L. Bingham, trustees); the Marquis C. Landrum GSST Exempt Marital Trust (Douglas B. Moore acting for Landmark Bank, National Association, Yulia Guseva, and Brenda L. Bingham, trustees); the Marquis C. Landrum Residual Trust (Douglas B. Moore acting for Landmark Bank, National Association, Yulia Guseva, and Brenda L. Bingham, trustees); The Landrum Company ESOP (Douglas B. Moore acting for Landmark Bank, National Association, trustee); and The Landrum Company Combined Benefits Plan (Douglas B. Moore acting for Landmark Bank, National Association, trustee); all as members of The Landrum Control Group, all of Columbia, Missouri; to acquire voting shares of Landrum Company, and thereby indirectly acquire voting shares of Landmark Bank, N.A., both in Columbia, Missouri.

C. Federal Reserve Bank of Minneapolis (Jacquelyn K. Brunmeier, Assistant Vice President) 90 Hennepin Avenue, Minneapolis, Minnesota 55480-0291:

1. Ann Groff, Victor, Montana, and Kay Clevidence Stevensville, Montana, individually, and Ryan Clevidence, and Sara Clevidence, both of Lolo, Montana, to retroactively join the Groff-Clevidence Family Control Group; to retain voting shares of Farmers State Financial Corporation, and thereby indirectly retain voting shares of Farmers State Bank, both in Victor, Montana.

D. Federal Reserve Bank of San Francisco (Gerald C. Tsai, Director, Applications and Enforcement) 101 Market Street, San Francisco, California 94105-1579:

1. Douglas Wayne Schmitt and Amber Marie Schmitt, both of Round Rock, Texas; DeAne Marie Blakley, Vancouver, Washington; Cheryl Ann Cornett, Hillsboro, Oregon; and Gary Gaye Schmitt, Vancouver, Washington; to acquire additional voting shares of Washington Bancorp, Inc., and thereby indirectly acquire additional voting shares of Bank of Washington, both in Lynnwood, Washington.

Board of Governors of the Federal Reserve System, September 1, 2015.
Michael J. Lewandowski,
Associate Secretary of the Board.

[FR Doc. 2015-21972 Filed 9-3-15; 8:45 am]

BILLING CODE 6210-01-P